DEPARTMENT OF EDUCATION

[CFDA No. 84.129 B, L, P, Q]

Withdrawal of Notice Inviting Applications for New Awards for Fiscal Year (FY) 2011; Rehabilitation Training: Rehabilitation Long-Term Training

AGENCY: Office of Special Education and Rehabilitative Services, Department of Education

ACTION: Notice.

SUMMARY: On April 20, 2011, the Department published in the Federal Register a notice inviting applications for new awards under the Rehabilitation Long-Term Training program for FY 2011. Since that time, the Department has determined that, as a result of final Congressional action on FY 2011 appropriations, there are not sufficient funds available in 2011 to make new awards. As such, the Department withdraws this notice inviting applications for new awards for FY 2011 under this program.

FOR FURTHER INFORMATION CONTACT: Tom Finch, U.S. Department of Education, Rehabilitation Services Administration, 400 Maryland Avenue, SW., room 5147, Potomac Center Plaza, Washington, DC 20202-2800. Telephone: (202) 245-7343 or by e-mail: Tom.Finch@ed.gov.

If you use a TDD, call the Federal Relay Service (FRS), toll free, at 1-800-877-8339.

Program Authority: 29 U.S.C. 772.

Accessible Format: Individuals with disabilities can obtain this document in an accessible format (e.g., braille, large print, audiotape, or computer diskette) by contacting the Grants and Contracts Service Team, U.S. Department of Education, 400 Maryland Avenue, SW., room 5075, PCP, Washington, DC 20202-2550. Telephone: (202) 245-7363. If you use a TDD, call the FRS, toll free, at 1—800—877—8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: May 12, 2011.
Alexa Posny,
Assistant Secretary for Special Education and Rehabilitative Services.

[FR Doc. 2011-12072 Filed 5-16-11; 8:45 am]

BILLING CODE 4000-01-P